DEPARTMENT OF THE INTERIOR

Bureau of Land Management

[ES-960-1430-ET; MIES-45076]

Public Land Order No. 7573; Partial Revocation of Executive Order Dated September 22, 1885; Michigan

AGENCY: Bureau of Land Management, Interior.

ACTION: Public Land Order.

SUMMARY: This order partially revokes an Executive Order insofar as it affects 0.62 acre of public land reserved for use by the U.S. Army Corps of Engineers for public purposes in connection with the improvement of a navigational channel in the Saint Mary's River. The reservation is no longer needed on this portion.

EFFECTIVE DATE: July 16, 2003.

FOR FURTHER INFORMATION CONTACT: Ed Ruda, Natural Resource Specialist, BLM Eastern States Office, 7450 Boston Boulevard, Springfield, Virginia 22153, 703-440-1671.

SUPPLEMENTARY INFORMATION: This is a record clearing action only. The land has been determined to be unsuitable for return to public domain status and has been reported as excess property to the General Services Administration and conveyed out of Federal ownership.

Order

By virtue of the authority vested in the Secretary of the Interior by Section 204 of the Federal Land Policy and Management Act of 1976, 43 U.S.C. 1714 (1994), it is ordered as follows:

The Executive Order dated September 22, 1885, which reserved certain islands in the St. Mary's River for public purposes in connection with the improvement of Hay Lake Channel, is hereby revoked insofar as it affects the following described land:

Michigan Meridian

T. 47 N., R. 1 E., Commencing at the SW Corner of Section 9; Thence along W line of Section 9, N 1° 44′ 56″ W, 2,625.27 feet to W ¼ corner of Section 9; N 89° 29′ 14″ E, 1,963.15 feet; S 68° 17′ 44″ E, 388.00 feet; N 22° 39′ 16″ E, 2,177.60 feet; S 45° 43′ 16″ E, 495.75 feet; S 59° 12′ 29″ E, 1,122.45 feet; S 50° 42′ 52″ E, 186.04 feet; S 68° 25′ 41″ E, 96.51 feet; N 71° 58′ 45″ E, 189.05 feet; S 38° 58′ 36″ E, 79.16 feet; N 61° 48′ 40″ E, 4.84 feet to the Point of Beginning; Thence S 61° 48′ 40″ W, 148.31 feet; S 26° 22′ 40″ E, 183.44 feet; N 63° 17′ 56″ E, 147.34 feet; Thence Northwesterly to the Point of Beginning.

The area described contains 0.62 acre in Chippewa County.

Dated: June 23, 2003.
Rebecca W. Watson,
Assistant Secretary—Land and Minerals Management.

[FR Doc. 03-17928 Filed 7-15-03; 8:45 am]

BILLING CODE 4310-GJ-P